FEDERAL COMMUNICATIONS COMMISSION

[OMB 3060-1323; FR ID 289540]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before June 16, 2025. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-1323.

Title: Schools and Libraries Cybersecurity Pilot Program.

Form Numbers: FCC Forms 470, 471, 472, 474—Cybersecurity, 484 and 488—Cybersecurity.

Type of Review: Revision of a currently approved collection.

Respondents: State, local or tribal government institutions, and other not-for-profit institutions.

Number of Respondents and Responses: 3,500 respondents; 17,710 responses.

Estimated Time per Response: 3 hours for FCC Form 470—Cybersecurity, 4 hours for FCC Form 471—Cybersecurity, 1 hour for FCC Forms 472/474—Cybersecurity, 14 hours for FCC Form 484, and 1 hour for FCC Form 488—Cybersecurity, and 4.5 recordkeeping requirements.

Frequency of Response: On occasion and annual reporting requirements, and recordkeeping requirement.

Obligation To Respond: Required to obtain or retain benefits. Statutory authority for this collection of information is contained in sections 1-4, 201-202, 254, 303(r), and 403 of the Communications Act of 1934, as amended, 47 U.S.C. 151-154, 201-202, 254, 303(r), and 403.

Total Annual Burden: 121,690 hours.

Total Annual Cost: No Cost.

Needs and Uses: The information collected is designed to obtain information from applicants and service providers that will be used by the Federal Communications Commission (Commission) and/or the Universal Service Administrative Company to evaluate the applications and select participants to receive funding under the Schools and Libraries Cybersecurity Pilot Program (Cybersecurity Pilot Program), and make funding determinations and disburse funding in compliance with applicable federal laws for payments made through the Cybersecurity Pilot Program. The Commission started accepting applications to participate in the Cybersecurity Pilot Program after publication of its Cybersecurity Pilot Program Report and Order and notice of Office of Management and Budget approval of the Cybersecurity Pilot Program information collection in the Federal Register. This revision adds a third part to the Schools and Libraries Cybersecurity Pilot Program Application, FCC Form 484, which is necessary so that the Commission has sufficient information to evaluate whether the Cybersecurity Pilot Program performance goals and periodic data reporting requirements set forth in the Cybersecurity Pilot Program Report and Order are being met. It is also necessary to help assess the costs and benefits of using the limited universal service funds to support the cybersecurity needs of K-12 schools and libraries. Finally, it is necessary to evaluate the extent to which the Cybersecurity Pilot Program is meeting the statutory objectives specified in section 254(h) of the Communications Act, as amended.

Federal Communications Commission.
Katura Jackson,
Federal Register Liaison Officer.

[FR Doc. 2025-06340 Filed 4-14-25; 8:45 am]

BILLING CODE 6712-01-P